DEPARTMENT OF THE INTERIOR

Bureau of Land Management

[WYW 183391]

Notice of Application for Withdrawal and Opportunity for Public Meeting, Burgess Junction Visitor Center and Administrative Site; Wyoming

AGENCY: Bureau of Land Management, Interior.

ACTION: Notice.

SUMMARY: The United States Forest Service (USFS) has filed an application with the Bureau of Land Management (BLM) requesting that the Secretary of the Interior withdraw approximately 73 acres of National Forest System land from location and entry under the mining laws in order to protect capital improvements constructed for the Burgess Junction Visitor Center and Administrative Site in the Bighorn National Forest. This notice temporarily segregates the land for up to 2 years from location and entry under the United States mining laws while the withdrawal application is being processed. This notice also gives the public an opportunity to comment on the withdrawal application and to request a public meeting. The land has been and will remain open to such forms of disposition allowed by law on National Forest System land and to mineral leasing.

DATES: Comments and requests for a public meeting must be received on or before April 16, 2015.

ADDRESSES: Comments and meeting requests should be sent to the BLM Wyoming State Office, 5353 Yellowstone Road, Cheyenne, Wyoming 82009.

FOR FURTHER INFORMATION CONTACT: Gayle Laurent, USDA Forest Service, Region 2, Supervisors Office, 2013 Eastside Second Street, Sheridan, Wyoming 82801; telephone 307-674-2656; email glaurent@fs.fed.us; or Janelle Wrigley, BLM Wyoming State Office, 5353 Yellowstone Road, Cheyenne, Wyoming 82009; telephone 307-775-6257; email jwrigley@blm.gov. Persons who use a telecommunications device for the deaf (TDD) may call the Federal Information Relay Service (FIRS) at 1-800-877-8339 to contact the above individuals. The FIRS is available 24 hours a day, 7 days a week, to leave a message or question with the above individuals. You will receive a reply during normal business hours.

SUPPLEMENTARY INFORMATION: The applicant is the USFS. The application requests the Secretary of the Interior to withdraw, subject to valid existing rights, the following described National Forest System land from location and entry under the United States mining laws, but not from leasing under the mineral leasing laws, for a period of 20 years, to protect the capital improvements constructed for the Burgess Junction Visitor Center and Administrative Site:

Bighorn National Forest

Sixth Principal Meridian

T. 56 N., R. 88 W.,

Sec. 31, S½NE¼NE¼NE¼, S½NW¼NE¼NE¼, S½NE¼NE¼, N½SE¼NE¼, N½SW¼SE¼NE¼, and SE¼SE¼NE¼, those portions lying northwesterly of the centerline of United States Highway 14;

Sec. 32, S½NW¼NW¼NW¼, SW¼NW¼NW¼, and NW¼SW¼NW¼, those portions lying northeasterly of the centerline of United States Highway 14.

The area described contains approximately 73 acres in Sheridan County. The purpose of the requested withdrawal is to protect the capital improvements constructed for the administrative site. The use of a right-of-way, interagency or cooperative agreement would not adequately constrain nondiscretionary uses which could result in permanent loss of the facilities at the site.

There are no suitable alternative sites as the described lands contain a fully constructed visitor center and administrative site. Moving the facilities to a different location would not be economical or practical.

No additional water rights would be needed to fulfill the purpose of the requested withdrawal. There is a well on the site for domestic purposes and a water rights permit is in place to the United States.

Records relating to the application may be examined by contacting Janelle Wrigley, BLM Wyoming State Office, at the above address; telephone 307-775-6257; email jwrigley@blm.gov.

For the period until April 16, 2015, all persons who wish to submit comments, suggestions or objections in connection with the withdrawal application may present their views in writing to the BLM Wyoming State Office at the address noted above. Comments, including names and street addresses of respondents, will be available for public review at the BLM Wyoming State Office at the address above during regular business hours 8:00 a.m. to 4:30 p.m., Monday through Friday, except Federal holidays.

Before including your address, phone number, email address, or other personal identifying information in your comment, you should be aware that your entire comment—including personal identifying information—may be made publicly available at any time. While you may ask us in your comment to withhold your personal identifying information from public review, we cannot guarantee that we will be able to do so. Notice is hereby given that an opportunity for a public meeting is afforded in connection with the application for withdrawal. All interested persons who desire a public meeting for the purpose of being heard on the application for withdrawal must submit a written request to the BLM Wyoming State Director no later than April 16, 2015. If the authorized officer determines that a public meeting will be held, a notice of the time and place will be published in the Federal Register and through local newspapers, at least 30 days before the scheduled date of the meeting.

For a period until January 16, 2017, subject to existing rights, the land described in this notice will be segregated from location and entry under the United States mining laws unless the application is denied or cancelled or the withdrawal is approved prior to that date. Licenses, permits, cooperative agreements or discretionary land use authorizations of a temporary nature which will not significantly impact the values to be protected by the withdrawal may be allowed with the approval of the authorized officer of the USFS during the temporary segregative period.

This application will be processed in accordance with the regulations set forth in 43 CFR part 2300.

Donald A. Simpson,
State Director, Wyoming.

[FR Doc. 2015-00598 Filed 1-15-15; 8:45 am]

BILLING CODE 3411-15-P